DEPARTMENT OF LABOR

Proposed Information Collection Request Submitted for Sixty Days' Public Comment; O*NET Data Collection Program, Extension of Currently Approved Collection Without Change

AGENCY: Employment and Training Administration, Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the O*NET (Occupational Information Network) Data Collection Program. A copy of the proposed information collection request (ICR) can be obtained by contacting the office listed below in the addressee section of this notice or by accessing: http://www.onetcenter.org/ombclearance.html

DATES: Written comments must be submitted to the office listed in the ADDRESSES section below on or before January 30, 2012.

ADDRESSES: Send comments to the Employment and Training Administration, 200 Constitution Avenue NW., Room C4526, Washington, DC 20210, Attention: Pam Frugoli. Fax: (202) 693-3015 (this is not a toll-free number). Email: o-net@doleta.gov.

FOR FURTHER INFORMATION CONTACT: Lauren Wright, Telephone number (202) 693-3045 (this is not a toll-free number), Email: wright.lauren@dol.gov.

SUPPLEMENTARY INFORMATION:

I. Background

The O*NET Data Collection Program is an ongoing effort to collect and maintain current information on the detailed characteristics of occupations and skills for more than 900 occupations. The resulting database provides the most comprehensive standardized source of occupational and skills information in the nation. O*NET information is used by a wide range of audiences, including individuals making career decisions, public agencies and schools providing career exploration services or education and training programs, and businesses making staffing and training decisions. The O*NET system provides a common language, framework and database to meet the administrative needs of various federal programs, including workforce investment and training programs supported by funding from the Departments of Labor, Education, and Health and Human Services.

Section 309 of the Workforce Investment Act requires the Secretary of Labor to oversee the “development, maintenance, and continuous improvement of a nationwide employment statistics system” which shall include, among other components, “skill trends by occupation and industry.” The O*NET database provides:

• Detailed information for more than 900 occupations.

• Descriptive information using standardized descriptors for skills, abilities, interests, knowledge, work values, education, training, work context, and work activities.

• Occupational coding based on the 2010 Standard Occupational Classification (SOC) system.

The O*NET electronic database and related O*NET products and tools have been incorporated into numerous public and private sector products and resources, summarized at http://www.onetcenter.org/paw.html. These products in turn serve millions of customers.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension.

Agency: Employment and Training Administration.

Title: O*NET Data Collection Program.

OMB Number: 1205-0421.

Affected Public: Business/Employers (includes private and not-for-profit businesses and government); individuals (incumbent workers, subject-matter experts).

Form: O*NET Data Collection Program.

Total Annual Respondents: 26288.

Frequency: annual.

Total Annual Responses: 26288.

Average Time per Response: Employer response time is 70 minutes. Incumbent worker response time is 30 minutes. Subject-matter expert response time is 90 minutes.

Estimated Total Annual Burden Hours: 13,670.

Total Annual Burden Cost: $536,820.

Comments submitted in response to this comment request will be summarized and/or included in the request for Office of Management and Budget approval of the information collection request; they will also become a matter of public record.

Signed: at Washington, DC, this 16th day of November, 2011.
Jane Oates,
Assistant Secretary, Employment and Training Administration.

[FR Doc. 2011-30585 Filed 11-28-11; 8:45 am]

BILLING CODE 4510-FN-P